SMALL BUSINESS ADMINISTRATION

[Declaration of Disaster #3316]

State of Oklahoma; Amendment #1

In accordance with a notice received from the Federal Emergency Management Agency, dated January 10, 2001, the above-numbered Declaration is hereby amended to establish the incident period for this disaster as beginning on December 25, 2000 and continuing through January 10, 2001.

All other information remains the same, i.e., the deadline for filing applications for physical damage is March 6, 2001 and for economic injury the deadline is October 5, 2001.

(Catalog of Federal Domestic Assistance Program Nos. 59002 and 59008)
Dated: January 11, 2001.
Herbert L. Mitchell,
Associate Administrator for Disaster Assistance.

[FR Doc. 01-1788 Filed 1-22-01; 8:45 am]

BILLING CODE 8025-01-P